ENVIRONMENTAL PROTECTION AGENCY

[ER-FRL-6609-5]

Environmental Impact Statements; Notice of Availability

Responsible Agency: Office of Federal Activities, General Information (202) 564-7157 or www.epa.gov/oeca/ofa

Weekly Receipt of Environmental Impact Statements

Filed July 17, 2000

Through July 21, 2000

Pursuant to 40 CFR 1506.9

EIS No. 000253, Draft EIS, AFS, MN, Little East Creek Fuel Reduction Project, Plan to Grant Access Across Federal Land to Non-Federal Landowners, Implementation, LaCroix Ranger District, Superior National Forest, Saint Louis County, MN, Due: September 11, 2000, Contact: Jim Thompson (218) 666-0020.

EIS No. 000254, Draft EIS, AFS, ID, South Fourth of July Ecosystem Restoration Project, Implementation, Salmon-Cobalt Ranger District, Salmon-Challis National Forest, Lemhi County, ID, Due: September 11, 2000, Contact: Doug Weaver (208) 756-5219.

EIS No. 000255, Final EIS, FRC, CA, UT, AZ, NM, Southern Trails Pipeline Project (CP99-163-000), Conversion of an Existing Crude Oil Pipeline (known as the ARCO Four Corners Pipeline Line 90 System), Construction and Operation, CA, AZ, UT and NM, Due: August 28, 2000, Contact: Paul McKee (202) 208-1066.

EIS No. 000256, Draft EIS, COE, NJ, Meadowlands Mills Project, Construction of a Mixed-Use Commercial Development, Permit Application Number 95-07-440-RS for Issuance of a USCOE Section 404 Permit, Boroughs of Carlstadt and Monnachie, Township of South Hackensack, Bergen County, NJ, Due: September 11, 2000, Contact: Steven Schumach (212) 264-0183.

EIS No. 000257, Draft EIS, USN, CA, Point Mugu Sea Range Naval Air Warfare Center Weapons Division (NAWCWPWS), Proposes To Accommodate TMD Testing and Training, Additional Training Exercises, Ventura, Los Angeles, Santa Barbara, San Diego and San Luis Obispo Counties, CA, Due: September 11, 2000, Contact: Cora Fields (888) 217-9045.

EIS No. 000258, Draft EIS, DOE, TN, WA, ID, Programmatic—Accomplishing Expanded Civilian Nuclear Energy Research and Development and Isotope Production Missions in the United States, Including the Role of the Fast Flux Test, ID, TN, WA, Due: September 18, 2000, Contact: Colette E. Brown (877) 562-4593.

EIS No. 000259, Draft EIS, SFW, CA, Bolsa Chica Lowlands Restoration Project, Creation of Wetland Habitat Areas, Approval and Issuance of USCOE Section 404 and USCGD Bridge Permits, Orange County, CA, Due: September 11, 2000, Contact: Jack Fancher (760) 431-9440. USFWS and USCOE are Joint Lead Agencies for the above EIS.

Dated: July 25, 2000.
Ken Mittelholtz,
Environmental Protection Specialist, Office of Federal Activities.

[FR Doc. 00-19155 Filed 7-27-00; 8:45 am]

BILLING CODE 6560-50-P